SECURITIES AND EXCHANGE COMMISSION

[File No. 500-1]

China North East Petroleum Holdings Limited, Order of Suspension of Trading

March 1, 2012.

It appears to the Securities and Exchange Commission (“Commission”) that there is a lack of current and accurate information concerning the securities of China North East Petroleum Holdings Limited (“NEP”), a Nevada corporation with principal executive offices in New York and oil drilling operations in the People's Republic of China. NEP's common stock is registered with the Commission pursuant to Section 12(g) of the Securities Exchange Act of 1934 (the “Exchange Act”) and is traded on NYSE Amex.

Questions have arisen regarding the accuracy and completeness of information contained in NEP's public filings with the Commission concerning, among other things, certain transfers of cash from the company's bank accounts to the personal bank accounts of related parties.

The Commission is of the opinion that the public interest and the protection of investors require a suspension of trading in the securities of NEP.

Therefore, it is ordered, pursuant to Section 12(k) of the Exchange Act, that trading in the above-listed company is suspended for the period from 9:30 a.m. EST, March 1, 2012, through 11:59 p.m. EDT, on March 14, 2012.

By the Commission.
Elizabeth M. Murphy,
Secretary.

[FR Doc. 2012-5373 Filed 3-1-12; 4:15 pm]

BILLING CODE 8011-01-P